DEPARTMENT OF THE INTERIOR

Fish and Wildlife Service

Notice of Receipt of Applications for Permit

Endangered Species

The following applicants have applied for a permit to conduct certain activities with endangered species. This notice is provided pursuant to Section 10(c) of the Endangered Species Act of 1973, as amended (16 U.S.C. 1531, et seq.). Written data or comments should be submitted to the Director, U.S. Fish and Wildlife Service, Division of Management Authority, 4401 North Fairfax Drive, Room 700, Arlington, Virginia 22203 and must be received by the Director within 30 days of the date of this publication.

Applicant: National Marine Fisheries Service/South West Region/Pacific Island Area Office, Honolulu, HI, PRT-022729.

The applicant requests a re-issuance of their permit to introduce from the high seas samples and/or whole carcasses of Olive Ridley Sea Turtle, Lepidochelys olivacea, Green Sea Turtle, Chelonia mydas, Hawkswbill Sea Turtle, Eretmochelys imbricata, Loggerhead Sea Turtle, Caretta caretta and Leatherback Sea Turtle, Dermochelys coriacea for scientific research purposes. This notification covers activities to be conducted by the applicant for a five year period.

Applicant: Florida Marine Research Institute/Florida Fish and Wildlife Conservation Commission, St. Petersburg, FL, PRT-758093.

The applicant requests a re-issuance of their permit to import tissue, blood, salvaged parts and stomach contents from, Green Sea Turtle, Chelonia mydas, Hawkswbill Sea Turtle, Eretmochelys imbricata, Loggerhead Sea Turtle, Caretta caretta as part of an on going research project to enhance the survival of the species through scientific research. This notification covers activities to be conducted by the applicant for a five year period.

Applicant: Woodland Park Zoological Gardens, Seattle, WA, PRT-040332.

The applicant requests a permit to import one female jaguar (Panthera onca) from the Bolivian Community Project, Trinidad, Bolivia for the purpose of enhancement of the survival of the species through captive propagation and conservation education.

Applicant: Amon L. Baucom, Charlotte, NC, PRT-041084.

The applicant requests a permit to import the sport-hunted trophy of one male bontebok (Damaliscus pygargus dorcas) culled from a captive herd maintained under the management program of the Republic of South Africa, for the purpose of enhancement of the survival of the species.

Applicant: Monte J. Brough, Wellsville, UT, PRT-041040.

The applicant requests a permit to import the sport-hunted trophy of one male bontebok (Damaliscus pygargus dorcas) culled from a captive herd maintained under the management program of the Republic of South Africa, for the purpose of enhancement of the survival of the species.

Applicant: University of Montana, Missoula, MT, PRT-041298.

The applicant request a permit to re-export biological samples from argali (Ovis ammon) to Dr. Gordon Luikart, CNRS, Grenoble , France, for the purpose of scientific research on the systematics of wild sheep. Samples were originally salvaged from animals found dead in the wild in China and imported under permit # U.S. 830751.

Applicant: Joe M. Thompson, Bonsall, CA, PRT-041360.

The applicant requests a permit to import the sport-hunted trophy of one male bontebok (Damaliscus pygargus dorcas) culled from a captive herd maintained under the management program of the Republic of South Africa, for the purpose of enhancement of the survival of the species.

Applicant: Hawthorn Corporation, Grayslake, IL, PRT-039541.

The applicant requests a permit to export and re-import captive-born tigers (Panthera tigris) and progeny of the animals currently held by the applicant and any animals acquired in the United States by the applicant to/from worldwide locations to enhance the survival of the species through conservation education. This notification covers activities conducted by the applicant over a three year period.

Marine Mammals

The public is invited to comment on the following application(s) for a permit to conduct certain activities with marine mammals. The application(s) was submitted to satisfy requirements of the Marine Mammal Protection Act of 1972, as amended (16 U.S.C. 1361 et seq.) and the regulations governing marine mammals (50 CFR 18).

Written data, comments, or requests for copies of these complete applications or requests for a public hearing on these applications should be sent to the U.S. Fish and Wildlife Service, Division of Management Authority, 4401 N. Fairfax Drive, Room 700, Arlington, Virginia 22203, telephone 703/358-2104 or fax 703/358-2281. These requests must be received within 30 days of the date of publication of this notice. Anyone requesting a hearing should give specific reasons why a hearing would be appropriate. The holding of such a hearing is at the discretion of the Director.

Applicant: United States Fish and Wildlife Service/Marine Mammal Management, Anchorage, AK PRT-041309.

Permit Type: Take for scientific research.

Name and Number of Animals: Northern sea otter, (Enhydra lutris lutis), Variable.

Summary of Activity To Be Authorized: The applicant requests a permit to conduct aerial and/or skiff surveys of Northern sea otters wherever they occur in the State of Alaska, that may result in Level B harassment, for the purpose of scientific research and population studies.

Source of Marine Mammals: Free ranging.

Period of Activity: 5 years.

Applicant: The Baltimore Zoo, Baltimore, MD, PRT-040039.

Permit Type: Import for public display.

Name and Number of Animals: Polar Bear (Ursus maritimus), 0.1.

Summary of Activity To Be Authorized: The applicant requests a permit to import a captive held adult polar bear for the purpose of public display and conservation education.

Source of Marine Mammals: One captive held adult animal currently housed at the Jardin de Quebec Zoologique, Quebec, Canada.

Concurrent with the publication of this notice in the Federal Register, the Division of Management Authority is forwarding copies of the above applications to the Marine Mammal Commission and the Committee of Scientific Advisors for their review.

Applicant: Michael A. Carpinito, Kent, WA, PRT-041421.

The applicant requests a permit to import a polar bear (Ursus maritimus) sport-hunted from the Lancaster Sound polar bear population taken during March 2001, in Canada for personal use.

Applicant: William D. Bray, Marble Falls, TX, PRT-041037.

The applicant requests a permit to import a polar bear (Ursus maritimus) sport-hunted from the Southern Beaufort Sea polar bear population taken during March 2001, in Canada for personal use.

Applicant: Danny Deshotels, Lettsworth, LA, PRT-041046.

The applicant requests a permit to import a polar bear (Ursus maritimus) sport-hunted from the Landcaster Sound polar bear population taken during March 2001, in Canada for personal use.

Applicant: John M. Saba, JR., Sarasota, FL, PRT-041359.

The applicant requests a permit to import a polar bear (Ursus maritimus) sport hunted from the Northern Beaufort Sea polar bear population taken during March 2001, in Canada for personal use.

The U.S. Fish and Wildlife has information collection approval from OMB through February 28, 2001. OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents to the following office within 30 days of the date of publication of this notice: U.S. Fish and Wildlife Service, Division of Management Authority, 4401 North Fairfax Drive, Room 700, Arlington, Virginia 22203. Phone: (703/358-2104); Fax: (703/358-2281).

Dated: March 13, 2001.
Anna Barry,
Senior Permit Biologist, Branch of Permits, Division of Management Authority.

[FR Doc. 01-10336 Filed 4-25-01; 8:45 am]

BILLING CODE 4310-55-U